DEPARTMENT OF TRANSPORTATION

Federal Aviation Administration

14 CFR Part 71

[Docket No. FAA-2006-25243; Airspace Docket No. 06-AWP-11]

Revocation of Class D Airspace; Elko, NV

AGENCY: Federal Aviation Administration (FAA), DOT.

ACTION: Final rule; correction.

SUMMARY: This action corrects the Document Management System docket number contained in the Direct Final Rule that was published in the Federal Register on Tuesday, July 18, 2006 (71 FR 40651). Airspace Docket No. 06-AWP-11.

DATES: Effective Date: December 15, 2006.

FOR FURTHER INFORMATION CONTACT: Larry Tonish, Airspace Specialist, Airspace Branch, AWP-520.1, Air Traffic Division, Western-Pacific Region, Federal Aviation Administration, 15000 Aviation Boulevard, Lawndale, California 90261, telephone (310) 725-6539.

SUPPLEMENTARY INFORMATION: Docket No. FAA-2006-24243; Airspace Docket No. 06-AWP-11, published on Tuesday, July 18, 2006 (71 FR 40651) revoked Class D airspace at Elko, NV. An error was discovered in the docket number. Docket No. FAA-2006-24243 should have been FAA-2006-25243. This action corrects that error.

Correction to Direct Final Rule

Accordingly, pursuant to the authority delegated to me, and in consideration of the foregoing, the Federal Aviation Administration corrects the Docket No. in the Federal Register, published Tuesday, July 18, 2006 (Vol. 71, No. 137, page 40651, column 3), as follows:

* * * * *

14 CFR Part 71

[Docket No. FAA-2006-25243; Airspace Docket No. 06-AWP-11]

* * * * *

Issued in Los Angeles, California, on November 2, 2006.
Leonard Mobley,
Acting Area Director, Western Terminal Operations.

[FR Doc. 06-9177 Filed 11-14-06; 8:45 am]

BILLING CODE 4910-13-M